AGENCY FOR INTERNATIONAL DEVELOPMENT

Board for International Food and Agricultural Development; One Hundred and Forty-Fourth Meeting; Notice of Meeting

Pursuant to the Federal Advisory Committee Act, notice is hereby given of the one hundred and forty-fourth meeting of the Board for International Food and Agricultural Development (BIFAD). The meeting will be held from 8:30 a.m. to 1 p.m. on May 19th, 2005 at the National Association of State Universities and Land Grant Colleges (NASULGC), 1307 New York Avenue, NW., Washington, DC (13th & H St.)

The BIFAD will address an agenda focusing on Agriculture Development in Afghanistan, including poppy control initiatives, a progress report on horticultural assessments recently held in Africa, Latin America and the Middle East, discussion of the merits of establishing a CRSP Board, issues of visa issuance for international trainees, long term training, and other items of general interest.

The meeting is free and open to the public. Those wishing to attend the meeting or obtain additional information about BIFAD should contact John Swanson, the Designated Federal Officer for BIFAD. Write him in care of the U.S. Agency for International Development, Ronald Reagan Building, Office of Agriculture and Food Security, 1300 Pennsylvania Avenue, NW., Room 2.11-06, Washington DC, 20523-2110 or telephone him at (202) 712-5602 or fax (202) 216-3010.

John Swanson,
USAID Designated Federal Officer for BIFAD, Office of Agriculture and Food Security, Bureau for Economic Growth, Agriculture & Trade.

[FR Doc. 05-8943 Filed 5-4-05; 8:45 am]

BILLING CODE 6116-01-P